ENVIRONMENTAL PROTECTION AGENCY

40 CFR Part 300

[FRL-7868-6]

National Oil and Hazardous Substances Pollution Contingency Plan; National Priorities List

AGENCY: Environmental Protection Agency.

ACTION: Direct final rule of deletion of the Southern Maryland Wood Treating Superfund Site from the National Priorities List.

SUMMARY: The Environmental Protection Agency (EPA) Region III is publishing a direct final rule of deletion of the Southern Maryland Wood Treating Superfund Site (Site), located in Hollywood (St. Mary's County), Maryland, from the National Priorities List (NPL).

The NPL, promulgated pursuant to section 105 of the Comprehensive Environmental Response, Compensation, and Liability Act of 1980, as amended (CERCLA), is Appendix B of 40 CFR part 300, which is the National Oil and Hazardous Substances Pollution Contingency Plan (NCP). This direct final rule of deletion is being published by EPA with the concurrence of the State of Maryland, through the Maryland Department of the Environment (MDE), because EPA has determined that all appropriate response actions under CERCLA have been completed and, therefore, further remedial action pursuant to CERCLA is not appropriate.

DATES: This direct final rule deletion will be effective April 5, 2005, unless EPA receives adverse comments by March 7, 2005. If adverse comments are received, EPA will publish a timely withdrawal of the direct final rule deletion in the Federal Register informing the public that the deletion will not take effect.

ADDRESSES: Comments may be mailed to: Robert Sanchez, Remedial Project Manager, U.S. EPA Region III (3HS23), 1650 Arch Street, Philadelphia, PA 19103-2029, (215) 814-3451.

Information Repositories: Comprehensive information about the Site is available for viewing and copying at the Site information repositories located at: U.S. EPA Region III, Regional Center for Environmental Information (RCEI), 1650 Arch Street (2nd Floor), Philadelphia, PA 19103-2029, (215) 814-5254, Monday through Friday, 8 a.m. to 5 p.m.; and in Maryland at the St. Mary's County Library, 23250 Hollywood Road, Leonardtown, MD 20650 (301) 475-2846, Monday through Friday, 8 a.m. to 4 p.m.

FOR FURTHER INFORMATION CONTACT: Robert Sanchez, Remedial Project Manager, U.S. EPA Region III (3HS23), 1650 Arch Street, Philadelphia, PA 19103-2029, (215) 814-3451 or 1-800-553-2509.

SUPPLEMENTARY INFORMATION:

Table of Contents

I. Introduction

II. NPL Deletion Criteria

III. Deletion Procedures

IV. Basis for Site Deletion

V. Deletion Action

I. Introduction

EPA Region III is publishing this direct final notice of deletion of the Southern Maryland Wood Treating Superfund Site from the NPL.

The EPA identifies sites that appear to present a significant risk to public health or the environment and maintains the NPL as the list of those sites. As described in § 300.425(e)(3) of the NCP, sites deleted from the NPL remain eligible for remedial actions if conditions at a deleted site warrant such action.

Because EPA considers this action to be noncontroversial and routine, EPA is taking it without prior publication of a notice of intent to delete. This action will be effective April 5, 2005, unless EPA receives adverse comments by March 7, 2005, on this document or the parallel notice of intent to delete published in the “Proposed Rules” section of today's Federal Register. If adverse comments are received within the 30-day public comment period on this notice or the notice of intent to delete, EPA will publish a timely withdrawal of this direct final notice of deletion before the effective date of the deletion and the deletion will not take effect. EPA will, as appropriate, prepare a response to comments and continue with the deletion process on the basis of the notice of intent to delete and the comments already received. There will be no additional opportunity to comment.

Section II of this document explains the criteria for deleting sites from the NPL. Section III discusses procedures that EPA is using for this action. Section IV discusses the Southern Maryland Wood Treating Superfund Site and demonstrates how it meets the deletion criteria. Section V discusses EPA's action to delete the Site from the NPL unless adverse comments are received during the public comment period.

II. NPL Deletion Criteria

Section 300.425(e) of the NCP provides that releases may be deleted from the NPL where no further response is appropriate. In making a determination to delete a Site from the NPL, EPA shall consider, in consultation with the State, whether any of the following criteria have been met:

i. Responsible parties or other persons have implemented all appropriate response actions required;

ii. All appropriate Fund-financed (Hazardous Substance Superfund Response Trust Fund) response under CERCLA has been implemented, and no further response action by responsible parties is appropriate; or

iii. The remedial investigation has shown that the release poses no significant threat to public health or the environment and, therefore, the taking of remedial measures is not appropriate.

Even if a site is deleted from the NPL, where hazardous substances, pollutants, or contaminants remain at the deleted site above levels that allow for unlimited use and unrestricted exposure, CERCLA section 121(c), 42 U.S.C. 9621(c), requires that a subsequent review of the site be conducted at least every five years after the initiation of the remedial action at the deleted site to ensure that the action remains protective of public health and the environment. If new information becomes available which indicates a need for further action, EPA may initiate remedial actions. Whenever there is a significant release from a site deleted from the NPL, the deleted site may be restored to the NPL without application of the hazard ranking system.

III. Deletion Procedures

The following procedures apply to deletion of the Site:

(1) EPA consulted with the State of Maryland on the deletion of the Site from the NPL prior to developing this direct final notice of deletion.

(2) The State of Maryland has concurred with deletion of the Site from the NPL.

(3) Concurrently with the publication of this direct final notice of deletion, a notice of the availability of the parallel notice of intent to delete published today in the “Proposed Rules” section of the Federal Register is being published in a major local newspaper of general circulation at or near the Site and is being distributed to appropriate Federal, State, and local government officials and other interested parties; the newspaper notice announces the 30-day public comment period concerning the notice of intent to delete the Site from the NPL.

(4) EPA placed copies of documents supporting the deletion in the Site information repositories identified above.

(5) If adverse comments are received within the 30-day public comment period on this notice or the companion notice of intent to delete also published in today's Federal Register, EPA will publish a timely notice of withdrawal of this direct final notice of deletion before its effective date. EPA will, as appropriate, prepare a response to comments and continue with the deletion process on the basis of the notice of intent to delete and the comments already received.

Deletion of a site from the NPL does not itself create, alter, or revoke any individual's rights or obligations. Deletion of a site from the NPL does not in any way alter EPA's right to take enforcement actions, as appropriate. The NPL is designed primarily for informational purposes and to assist EPA management. Section 300.425(e)(3) of the NCP states that the deletion of a site from the NPL does not preclude eligibility for future response actions, should future conditions warrant such actions.

IV. Basis for Site Deletion

The following information provides EPA's rationale for deleting the Site from the NPL:

Site History and Characteristics

Land and Resource Use

The Southern Maryland Wood Treating Site is approximately 25 acres in size and is located on a 94-acre parcel of land just west of Maryland Route 235 approximately one mile north of Hollywood, Maryland. The upland portion of the Site where most of the remedial work took place is approximately 25 acres. The remainder of the Site is situated in or near a flood plain area. Title of the property which constitutes the Site is being held by a bankruptcy trustee. The Site is bounded by residential, agricultural and wooded tracts of land. The Site is the head waters of Old Tom's Run which eventually flows into Breton Bay and then into the Potomac River.

History of Contamination/Response Actions

The Site was owned and operated by the Southern Maryland Wood Treating Corporation from 1965 to 1978 as a pressure treatment wood preservation facility. Creosote and pentachlorophenol (PCP) were used as wood preservatives by the facility. Six unlined lagoons were used for disposal of liquid wastes from the process. As a result of such disposal practices, onsite soils and ground water beneath the lagoons became contaminated. Non-aqueous phase liquids (NAPLs), both light (LNAPLs) and dense (DNAPLs), were found in the subsurface beneath the lagoons and above the underlying clay layer. Additionally, due to ground water discharge to the onsite pond from the lagoon area, surface water and sediments in the onsite pond and sediments in Old Tom's Run (east and west tributaries) became contaminated. Storage of treated wood onsite resulted in surface soil contamination in the northern section of the site and northeast tank area.

On March 14, 1985, EPA initiated its first response action, namely a removal action, at the Site after the discovery of contaminated material seeping into the onsite freshwater pond. During the removal action EPA excavated 1,400 cubic yards of contaminated sediments from the freshwater pond. The sediments were stabilized with cement kiln dust and encapsulated on the Site, and remained on the Site until a final treatment. The Site was promulgated on the National Priorities List on June 10, 1986. In 1988, EPA concluded a Remedial Investigation (RI) and Feasibility Study (FS) for the Site. Based on the findings of these studies, EPA issued a Record of Decision on June 29, 1988 (1988 ROD). In the 1988 ROD EPA's selected remedy consisted of the construction of a subsurface barrier wall around the former lagoon area, excavation and onsite incineration of contaminated soil and pumping and treatment of contaminated ground water. Construction of the substance barrier (sheet pile wall) was completed in November of 1990. By May 1992, design of the incinerator and the ground water treatment system were 95% complete. At that point, local citizens and local government entities expressed opposition to an onsite incinerator. The design work was suspended and EPA proposed to conduct a Focused Feasibility Study (FFS) to reevaluate the remedy for the Site.

On June 29, 1993, a second removal action was initiated to address certain immediate threats at the Site while the FFS was being conducted. This action included the demolition of several buildings that were in danger of collapse; the removal and off-site disposal of liquid and solid waste in numerous tanks and retorts; maintaining the pile of previously excavated and stabilized sediment; the construction of an underflow dam to reduce the amount of contaminated material migrating from the onsite pond into the west tributary stream; the construction of a trench upgradient of the pond to collect contaminated ground water, and the construction of a water treatment facility. The water treatment plant (WTP-1) became fully operational in 1995.

The Focused Feasibility Study (FFS) was completed in February 1995. Based on the FFS, the EPA issued a second Record of Decision on September 8, 1995 (1995 ROD). In this 1995 ROD, EPA revised the remedy selected in the 1988 ROD from incineration to thermal desorption which the community accepted as the remedy. In addition to excavation of the upland area, some excavation in the small tributary stream that receives storm water runoff from the former lagoon area was conducted.

Two large continuous thermal desorption units with vapor recovery units were constructed on-site and became operational in June 1998. Soil treatment operations continued until October 6, 2000. At that point, approximately 270,600 tons of contaminated soils and sediments had been successfully treated. The Site was re-graded and re-vegetated with a diverse mixture of wildflowers and grains suitable for wildlife habitant. Demobilization activities began in October 2000 and continued until December 2000.

Cleanup Standards

During the excavation and thermal desorption process, but before backfilling was conducted, all treated soil was sampled to determine if contaminants had been properly removed from the soils and sediments. Based on this sampling, EPA determined that all of the treated Site soils were cleaned to the required performance standards. These standards were established in the 1995 ROD as Remedial Action Objectives (“RAOs”). The RAOs set soil clean-up levels of 0.1 ppm Benzo (a) Pyrene (B(a)P) equivalent for surface soils (within two feet of the surface) and 1.0 ppm B(a)P equivalent for subsurface soils (below two feet from the surface). However, during the remedial action data showed that in areas where the Site soils were below the Benzo (a) Pyrene (B(a)P) clean-up levels there were still high levels of pentachlorophenol (PCP) in the soil. To assure that the soil in these areas was treated, a non-significant change to the 1995 ROD was issued by EPA on March 5, 1999. This non-significant change established a cleanup level of 5.0 ppm PCP. In addition, another non-significant change was the use of treated soils from the Site as backfill below the water table. These treated soils were required to meet a clean-up level of 1.7 ppm PCP. This change from the 1995 ROD was announced during the public meeting on November 7, 1996 and documented in the “Site Specific Work Plan,” dated July 1997.

Post Closure Monitoring

A Post Closure Monitoring Plan, dated November 2000, was prepared to verify the success of the cleanup. The plan required sampling a network of monitoring wells throughout the Site including one well at the center of the former lagoon area. In addition the plan required the evaluation of the restored uplands and wetlands areas that had undergone excavation, backfilling, and re-vegetation. The monitoring wells were sampled quarterly from October 2000 to September 2002. Samples were analyzed for target compounds such as semi-volatiles, polynuclear aromatic hydrocarbons (PAH), and pentachlorophenol (PCP). All the sampling results showed that levels for these contaminants were well below their respective Maximum Contaminant Levels (MCLs) established under the Safe Drinking Water Act, 42 U.S.C. 300f et seq. Formal inspections of the wetland and upland areas were conducted concurrently with the monitoring well sampling effort. These areas showed no signs of erosion. All disturbed wetland areas have stabilized. The disturbed uplands areas are currently stabilized with grass, and the overall upland area is showing 95 percent total herbaceous coverage. After completion of sampling in September 2002 all monitoring wells and the 600-foot deep production well were subsequently closed out in accordance with MDE regulations for well abandonment. The production well required special close-out procedures involving blasting. The concern for this very deep well was that ground water from the upper non-potable aquifer could migrate down to the lower potable aquifer along possible voids on the outside of the well sleeve. Complete separation of these two aquifers was assured by blasting the well sleeve open at a point where there was an impervious clay layer between the upper and lower aquifers and then pumping in grout material to seal the well.

Five-Year Review

EPA has completed two Five-Year Reviews for this Site. The first was completed on September 30, 1994 and the second on September 30, 1999. Since the clean-up was ongoing these reviews were not required by statute, but were conducted as a matter of policy.

Five-Year Reviews are required at sites where the remedial action results in hazardous substances, pollutants or contaminants remain at the site above levels that allow for unrestricted use and unrestricted exposure. The response actions conducted at the Southern Maryland Wood Treating Site are now complete, and allow for unlimited use and unrestricted exposure, thus no additional Five-Year Reviews will be conducted for this Site.

Community Involvement

Public participation activities have been satisfied as required in CERCLA section 113(k), 42 U.S.C. 9613(k), and CERCLA section 117, 42 U.S.C. 9617. Documents in the Site docket which EPA relied on for recommendation of the deletion of the Site from the NPL are available to the public in the information repositories.

V. Deletion Action

EPA, with the concurrence of the State of Maryland, has determined that all appropriate responses under CERCLA have been completed at the Site, and that no further response actions are necessary. Therefore, EPA is deleting the Site from the NPL.

Because EPA considers this action to be noncontroversial and routine, EPA is taking it without prior publication of a notice of intent to delete. This action will be effective April 5, 2005, unless EPA receives adverse comments by March 7, 2005, on this notice or the parallel notice of intent to delete published in the “Proposed Rules” section of today's Federal Register. If adverse comments are received within the 30-day public comment period, EPA will publish a timely withdrawal of this direct final notice of deletion before the effective date of the deletion and it will not take effect and EPA will also prepare a response to comments and continue with the deletion process on the basis of the notice of intent to delete and the comments already received. There will be no additional opportunity to comment.

List of Subjects in 40 CFR Part 300

Environmental protection, Air pollution control, Chemicals, Hazardous waste, Hazardous substances, Intergovernmental relations, Penalties, Reporting and recordkeeping requirements, Superfund, Water pollution control, Water supply.

Dated: January 26, 2005.
Richard J. Kampf,
Acting Regional Administrator, Region III.

For the reasons set out in the preamble, 40 CFR part 300 is amended as follows:

PART 300—[AMENDED]

1. The authority citation for part 300 continues to read as follows:

Authority: 33 U.S.C. 1321(c)(2); 42 U.S.C. 9601-9657; E.O. 12777, 56 FR 54757, 3 CFR, 1991 Comp., p. 351; E.O. 12580, 52 FR 2923, 3 CFR, 1987 Comp., p. 193.

Appendix B—[Amended]

2. Table 1 of Appendix B to Part 300 is amended under Maryland (“MD”) by removing the site name “Southern Maryland Wood Treating, Hollywood.”

[FR Doc. 05-2058 Filed 2-3-05; 8:45 am]

BILLING CODE 6560-50-P